DEPARTMENT OF ENERGY

Federal Energy Regulatory Commission

Combined Notice of Filings

Take notice that the Commission has received the following Natural Gas Pipeline Rate and Refund Report filings:

Filings Instituting Proceedings

Docket Number: PR19-40-001.

Applicants: Cranberry Pipeline Corporation.

Description: Tariff filing per 284.123(b), (e)+(g): Amended Application for Rate Approval to be effective 4/18/2019.

Filed Date: 4/17/19.

Accession Number: 201904175128.

Comments Due: 5 p.m. ET 5/8/19.

284.123(g) Protests Due: 5 p.m. ET 5/8/19.

Docket Numbers: RP19-1129-000.

Applicants: Columbia Gas Transmission, LLC.

Description: § 4(d) Rate Filing: TCO VPSE Negotiated Rate Amendments to be effective 4/16/2019.

Filed Date: 4/16/19.

Accession Number: 20190416-5096.

Comments Due: 5 p.m. ET 4/29/19.

Docket Numbers: RP19-1130-000.

Applicants: MIGC LLC.

Description: § 4(d) Rate Filing: Gas Quality Update—Hydrogen Sulphide and Sulphur to be effective 5/17/2019.

Filed Date: 4/17/19.

Accession Number: 20190417-5000.

Comments Due: 5 p.m. ET 4/29/19.

Docket Numbers: RP19-1131-000.

Applicants: Trunkline Gas Company, LLC.

Description: § 4(d) Rate Filing: Administrative Revisions Filing to be effective 5/18/2019.

Filed Date: 4/17/19.

Accession Number: 20190417-5069.

Comments Due: 5 p.m. ET 4/29/19.

Docket Numbers: RP19-1132-000.

Applicants: El Paso Natural Gas Company, L.L.C.

Description: Penalty Crediting Report of El Paso Natural Gas Company, L.L.C. under RP19-1132.

Filed Date: 4/17/19.

Accession Number: 20190417-5096.

Comments Due: 5 p.m. ET 4/29/19.

Docket Numbers: RP19-1134-000.

Applicants: Tennessee Gas Pipeline Company, L.L.C.

Description: § 4(d) Rate Filing: Wells Fargo Commodities SP347736 to be effective 5/1/2019.

Filed Date: 4/17/19.

Accession Number: 20190417-5127.

Comments Due: 5 p.m. ET 4/29/19.

Docket Numbers: RP19-1135-000.

Applicants: Midcontinent Express Pipeline LLC.

Description: § 4(d) Rate Filing: Fuel Tracker Filing 4/18/19 to be effective 6/1/2019.

Filed Date: 4/18/19.

Accession Number: 20190418-5000.

Comments Due: 5 p.m. ET 4/30/19.

Docket Numbers: RP19-1136-000.

Applicants: Elba Express Company, L.L.C.

Description: § 4(d) Rate Filing: Fuel Tracker Filing—2019 to be effective 6/1/2019.

Filed Date: 4/18/19.

Accession Number: 20190418-5001.

Comments Due: 5 p.m. ET 4/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2019.
Nathaniel J. Davis, Sr.,
Deputy Secretary.

[FR Doc. 2019-08238 Filed 4-23-19; 8:45 am]

BILLING CODE 6717-01-P